DEPARTMENT OF HEALTH AND HUMAN SERVICES

Substance Abuse and Mental Health Services Administration

Statement of Organization, Functions, and Delegations of Authority

Part M of the Substance Abuse and Mental Health Services Administration (SAMHSA) Statement of Organization, Functions, and Delegations of Authority for the Department of Health and Human Services at 71, Number 137, FR 40730-40731, July 18, 2006 is amended to reflect the new functional statements for the Center for Substance Abuse Treatment (CSAT), Division of Services Improvement (DSI), and the Division of State and Community Assistance (DSCA). The restructuring of DSI will ensure that all activities are consolidated within a structure reflective of current Agency priorities, such as health service systems development, program quality improvement, and targeted priority populations. The DSCA role and responsibility will be clarified and made much more relevant to today's performance management environment. This realignment of functions will have a positive impact on organizational effectiveness. The changes are as follows:

Section M.20, Functions is amended as follows:

The functional statements for the Center for Substance Abuse Treatment (MT), Division of Services Improvement (MTB), and the Division of State and Community Assistance (MTE) are replaced with the following:

Center for Substance Abuse Treatment (MT)

Division of Services Improvement (MTB)

(1) Develops, plans, implements, and monitors a national treatment capacity expansion and knowledge adoption program designed to improve treatment services for targeted populations served by both the specialty drug treatment system and other systems of care; (2) provides leadership and guidance to CSAT on strategies to improve the quality of drug treatment services delivered nationwide; (3) supports the development and testing of substance abuse performance measures for public and private health plans; (4) collects, analyzes, and disseminates data and information pertaining to public and private financing and expenditures for treatment services; (5) assesses and responds to the identified needs for workforce development among substance abuse treatment and recovery support providers; (6) collaborates on the development of requests for applications and requests for contracts for the national treatment capacity expansion, knowledge adoption, quality and services improvement agenda; (7) monitors grants, cooperative agreements, contracts, interagency agreements, and memoranda of understanding for treatment capacity expansion, knowledge adoption, and quality and services improvement; (8) identifies the need for, develops, and provides technical assistance to grantees, other service providers and systems of care, and others on adoption of evidence-based practices to promote quality and services improvement, capacity expansion, and organization and financing of services; (9) establishes and maintains collaborative relationships with other Federal, State, and local governmental agencies, national organizations, and constituency groups; (10) maintains internal expertise and collaborates with national experts on the science-to-services agenda; and (11) develops funding levels for Division programs and activities.

Division of State and Community Systems Development (MTE)

(1) Administers the Substance Abuse Block Grant Program, including oversight and approval of Block Grant applications and maintenance of effort (MOE) issues; (2) administers the Substance Abuse Treatment National Outcome Measures (NOMs), negotiating quality improvement agreements with States; (3) monitors and ensures State compliance with legislative and regulatory provisions which apply to SAPTBG funds at State and provider levels; (4) provides guidance and technical assistance to States in preparation of State substance abuse plans; (5) conducts performance reviews of State agencies and treatment programs; (6) works closely with data and evaluation to assure proper reporting and data integrity; (7) administers the State Incentive Grant program for co-occurring disorders and the Targeted Capacity Expansion (TCE) grant program for co-occurring disorders and homelessness; (8) works collaboratively with the Division of Services Improvement on performance measurement, GPRA, and HIPAA issues; and (9) serves as focus for State and local performance data analysis and development issues.

Delegations of Authority

All delegations and redelegations of authority to officers and employees of SAMHSA which were in effect immediately prior to the effective date of this reorganization shall continue to be in effect pending further redelegations, providing they are consistent with the reorganization.

These organizational changes are effective:
Dated: March 22, 2007.
Terry L. Cline,
Administrator.

[FR Doc. E7-6014 Filed 3-30-07; 8:45 am]

BILLING CODE 4160-01-P